DEPARTMENT OF COMMERCE

National Oceanic and Atmospheric Administration

RIN: 0648-XC33

New England Fishery Management Council; Public Meeting

AGENCY: National Marine Fisheries Service (NMFS), National Oceanic and Atmospheric Administration (NOAA), Commerce.

ACTION: Notice of a public meeting.

SUMMARY: The New England Fishery Management Council (Council) will hold a two-day Council meeting on September 18-19, 2007, to consider actions affecting New England fisheries in the exclusive economic zone (EEZ).

DATES: The meeting will be held on Tuesday, September 18, 2007, beginning at 9 a.m., and Wednesday, September 19, 2007, beginning at 8 a.m.

ADDRESSES: The meeting will be held at the Radisson Hotel Plymouth Harbor, 180 Water Street, Plymouth, MA 03260; telephone: (508) 747-4900.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, September 18, 2007

Following introductions, the Council will conduct elections for 2007-08 officers. Once elections have been completed, members will receive a report from NOAA's Office of Law Enforcement on vessel monitoring system (VMS) network outages and missing position reports from last spring through mid-winter, 2007. Prior to a lunch break there will be an update on the status of Atlantic herring as well as the east coast herring fishery. During the afternoon session the Council will consider and possibly approve a Great South Channel Habitat Area of Particular Concern (HAPC) for inclusion in the draft document for Essential Fish Habitat Omnibus Amendment 2. The Multispecies (Groundfish) Committee will provide an update on the development of Amendment 16 to the Northeast Multispecies Fishery Management Plan (FMP). Topics will include sector policy issues, permit history calculations for determining sector catch shares and a review of fishing effort control measures under discussion. The Council will adjourn for the day following a report from its Transboundary Management Guidance Committee. Based on committee advice, the Council intends to approve 2008 Total Allowable Catches for Eastern Georges Bank cod and haddock and Georges Bank yellowtail flounder.

Wednesday, September 19, 2007

The Wednesday session will begin with a series of brief reports from the Council Chairman and Executive Director, the NOAA Northeast Regional Administrator, Northeast Fisheries Science Center and Mid-Atlantic Fishery Management Council liaisons, NOAA General Counsel and representatives of the U.S. Coast Guard, NOAA Enforcement, and the Atlantic States Marine Fisheries Commission. Following these reports, the Council will receive a presentation summarizing the conclusions of the 45th Northeast Regional Stock Assessment Workshop and its Stock Assessment Review Committee concerning the status of sea scallops and Northern shrimp. The Council's Scallop Committee will review progress to date on Framework 19 to the Sea Scallop Fishery Management Plan. Following a lunch break there will be a presentation by NOAA Fisheries staff on Draft Amendment 2 to the Consolidated Highly Migratory Species FMP. The amendment examines different management alternatives available to rebuild sandbar, dusky and porbeagle sharks. There will be an update on the draft management measures and alternatives developed for inclusion in Amendment 3 to the Skate Complex Fishery Management Plan. The Council also will hear a report on the status of the monkfish resource, a presentation based on the results of the recently convened Data Poor Stocks Working Group. The Council meeting will adjourn once it has addressed monkfish management issues, including a discussion of possibly initiating a new framework adjustment to the Monkfish FMP in response to the monkfish assessment and to replace the 2007 emergency rule now in effect.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: August 28, 2007.
Tracey L. Thompson,
Acting Director, Office of Sustainable Fisheries, National Marine Fisheries Service.

[FR Doc. E7-17378 Filed 8-31-07; 8:45 am]

BILLING CODE 3510-22-S